DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will meet March 24-25, 2004, in the Doyle Ballroom of the Jurys Washington Hotel, 1500 New Hampshire Avenue, NW., Washington, DC. On March 24, the Board will convene at 10 a.m., and adjourn for the day at 1 p.m. The Board will reconvene on March 25 at 8:30 a.m., and adjourn at 4:30 p.m. National Park Service Director Fran Mainella will address the Board on March 24, followed by orientation of new members, and afternoon tour of National Historic Sites. March 25, the Board will receive reports from its committees and consider pending business. National Historic Landmark nominations will be reviewed during the morning session.

Other officials of the National Park Service and the Department of the Interior may address the Board, and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Chief, Office of Policy and Regulations, National Park Service, 1849 C Street, NW., Washington, DC 20240 (telephone 202-208-7456).

Draft minutes of the meeting will be available for public inspection about 12 weeks after the meeting, in room 2228, Main Interior Building, 1849 C Street, NW., Washington, DC.

Dated: March 2, 2004.
Loran Fraser,
Chief, Office of Policy, National Park Service.

[FR Doc. 04-5308 Filed 3-9-04; 8:45 am]

BILLING CODE 4310-70-P